DEPARTMENT OF ENERGY

Federal Energy Regulatory Commission

Combined Notice of Filings #1

Take notice that the Commission received the following electric corporate filings:

Docket Numbers: EC13-125-000.

Applicants: CalPeak Power LLC, CalPeak Power—Border LLC, CalPeak Power—Panoche LLC, CalPeak Power—Vaca Dixon LLC, CalPeak Power—Enterprise LLC.

Description: Application of CalPeak Power, LLC, et al. for Authorization under Section 203 of the Federal Power Act for Disposition of Jurisdictional Facilities and Requests for Expedited Consideration and Confidential Treatment.

Filed Date: 7/10/13.

Accession Number: 20130710-5255.

Comments Due: 5 p.m. ET 7/31/13.

Docket Numbers: EC13-126-000.

Applicants: Starwood Power-Midway, LLC.

Description: Application of Starwood Power-Midway, LLC for Authorization under Section 203 of the Federal Power Act for Disposition of Jurisdictional Facilities and Requests for Expedited Consideration and Confidential Treatment.

Filed Date: 7/10/13.

Accession Number: 20130710-5257.

Comments Due: 5 p.m. ET 7/31/13.

Take notice that the Commission received the following electric rate filings:

Docket Numbers: ER11-1858-002; ER11-1859-001.

Applicants: NorthWestern Corporation, Montana Generation, LLC.

Description: NorthWestern Corporation, et al. submits an updated market power screen analysis for wholesale electricity markets in the Northwest Region.

Filed Date: 7/1/13.

Accession Number: 20130703-0016.

Comments Due: 5 p.m. ET 8/30/13.

Docket Numbers: ER13-1943-001.

Applicants: Midcontinent Independent System Operator, Inc.

Description: 07-10-13 to be effective 1/1/2014.

Filed Date: 7/11/13.

Accession Number: 20130711-5000.

Comments Due: 5 p.m. ET 8/26/13.

Docket Numbers: ER13-1948-000.

Applicants: Southern California Edison Company.

Description: GIA and Distribution Service Agmt with Searles Valley Minerals to be effective 7/13/2013.

Filed Date: 7/11/13.

Accession Number: 20130711-5001.

Comments Due: 5 p.m. ET 8/1/13.

Docket Numbers: ER13-1949-000.

Applicants: Southern California Edison Company.

Description: Amended Distribution Service Agreement with Cascade Solar to be effective 6/1/2013.

Filed Date: 7/11/13.

Accession Number: 20130711-5002.

Comments Due: 5 p.m. ET 8/1/13.

Docket Numbers: ER13-1950-000.

Applicants: Southern California Edison Company.

Description: Amended Distribution Service Agreement with City of Banning-Devers-Mirage Split to be effective 6/1/2013.

Filed Date: 7/11/13.

Accession Number: 20130711-5003.

Comments Due: 5 p.m. ET 8/1/13.

Docket Numbers: ER13-1951-000.

Applicants: Niagara Mohawk Power Corporation.

Description: Notice of Cancellation of Interconnection Agreement with Indeck-Yerkes Limited Partnership of Niagara Mohawk Power Corporation.

Filed Date: 7/10/13.

Accession Number: 20130710-5251.

Comments Due: 5 p.m. ET 7/31/13.

Docket Numbers: ER13-1952-000.

Applicants: Niagara Mohawk Power Corporation.

Description: Notice of Cancellation of Interconnection Agreement with Indeck-Olean Limited Partnership of Niagara Mohawk Power Corporation.

Filed Date: 7/10/13.

Accession Number: 20130710-5252.

Comments Due: 5 p.m. ET 7/31/13.

Docket Numbers: ER13-1953-000.

Applicants: Midcontinent Independent System Operator, Inc.

Description: Midcontinent Independent System Operator, Inc. submits 07-11-2013 BREC-KU T-T IA Cert of Concur to be effective 9/3/2013.

Filed Date: 7/11/13.

Accession Number: 20130711-5042.

Comments Due: 5 p.m. ET 8/1/13.

Docket Numbers: ER13-1954-000.

Applicants: Aragonne Wind LLC.

Description: Request for Waiver of Tariff Provision by Aragonne Wind LLC under ER13-1954.

Filed Date: 7/10/13.

Accession Number: 20130710-5253.

Comments Due: 5 p.m. ET 7/31/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2013.
Nathaniel J. Davis, Sr.,
Deputy Secretary.

[FR Doc. 2013-17333 Filed 7-18-13; 8:45 am]

BILLING CODE 6717-01-P